ELECTION ASSISTANCE COMMISSION

Sunshine Act Notice

AGENCY: U.S. Election Assistance Commission.

ACTION: Notice of public meeting for EAC Standards Board.

Date and Time: Thursday, August 6, 2009, 8:30 a.m.-5:30 p.m. MDT and Friday, August 7, 2009, 8:30 a.m.-12 p.m. MDT.

Place: Sheraton Phoenix Downtown, 340 North Third Street, Phoenix, AZ 85004, Phone Number: (602) 262-2500.

Agenda: The U.S. Election Assistance Commission (EAC) Standards Board, as required by the Help America Vote Act of 2002, will meet to receive updates on the Voluntary Voting System Guidelines 1.1 (VVSG) which is now available for public comment. The Standards Board will discuss proposed updates and improvements to the VVSG. The Standards Board will hear committee reports on the VVSG, formulate recommendations to the EAC regarding the VVSG, receive updates on EAC activities, and consider other administrative matters.

Members of the public may observe but not participate in EAC meetings unless this notice provides otherwise. Members of the public may use small electronic audio recording devices to record the proceedings. The use of other recording equipment and cameras requires advance notice to and coordination with the Commission's Communications Office.*

* View EAC Regulations Implementing Government in the Sunshine Act.

This meeting will be open to the public.

Person to Contact for Information: Bryan Whitener, Telephone: (202) 566-3100.

Gineen Beach,
Chair, U.S. Election Assistance Commission.

[FR Doc. E9-17752 Filed 7-21-09; 4:15 pm]

BILLING CODE 6820-KF-P